DEPARTMENT OF ENERGY

Federal Energy Regulatory Commission

[Project No. 1510-018]

City of Kaukauna, Wisconsin; Notice of Application Accepted for Filing, Soliciting Motions To Intervene and Protests, Ready for Environmental Analysis, and Soliciting Comments, Recommendations, Terms and Conditions, and Prescriptions

Take notice that the following hydroelectric application has been filed with the Commission and is available for public inspection.

a. Type of Application: New Major License.

b. Project No.: 1510-018.

c. Date filed: March 24, 2017.

d. Applicant: City of Kaukauna, Wisconsin (Kaukauna).

e. Name of Project: Kaukauna Project.

f. Location: On the Fox River in the City of Kaukauna, Outagamie County, Wisconsin. There are no federal or tribal lands within the project boundary.

g. Filed Pursuant to: Federal Power Act 16 U.S.C. 791(a)-825(r).

h. Applicant Contact: Mr. Mike Pedersen, Kaukauna Utilities, 777 Island Street, P.O. Box 1777, Kaukauna, WI 54130-7077; (920) 766-5721.

i. FERC Contact: Erin Kimsey, (202) 502-8621 or erin.kimsey@ferc.gov.

j. Deadline for filing motions to intervene and protests, comments, recommendations, terms and conditions, and prescriptions: 60 days from the issuance date of this notice; reply comments are due 105 days from the issuance date of this notice.

The Commission strongly encourages electronic filing. Please file motions to intervene and protests, comments, recommendations, terms and conditions, and prescriptions using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-1510-018.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted for filing and is now ready for environmental analysis.

l. The existing Kaukauna City Plant Hydroelectric Project consists of: (1) An approximately 3,842-foot-long dam that includes: (a) A 930-foot-long, 14-foot-high masonry retaining wall section (left forebay dam) with a 4-foot-wide trash sluice; (b) a 92-foot-long, 25-foot-high concrete intake and powerhouse section; (c) a 292-foot-long, 26- to 30-foot-high masonry and concrete retaining wall section (right forebay dam); (d) a 34-foot-long, 11-foot-high trash sluice; (e) a 66-foot-long, 18-foot-high gated spillway section with two 30-foot-wide, 8.8-foot-high spillway gates; and (f) a 2,428-foot-long, 0.5- to 10-foot-high concrete and natural rock spillway section; (2) a 19-acre,1.5-mile-long impoundment with a normal maximum elevation of 629.0 feet above mean sea level (msl); (3) a 25-foot-high, 88-foot-wide intake structure with seven 11-foot-high, 7-foot-wide head gates and a continuous 25-foot-high, 88-foot-wide trashrack with 5-inch clear-bar spacing; (4) a 92-foot-long, 47.5-foot-high concrete and brick powerhouse containing two 2.4-megawatt turbine-generator units for a total installed capacity of 4.8 megawatts; (5) a 440-foot-wide, 49-foot-deep, 1,200-foot-long excavated tailrace; (6) two 68-foot-long, 2.4-kilovolt generator leads that connect the turbine-generator units to the licensee's local distribution system; and (7) appurtenant facilities. Kaukauna operates the project in a run-of-river mode with an average annual generation of approximately 29,704 megawatt-hours.

Kaukauna is not proposing any new project facilities, and proposes to continue operating the project in a run-of-river mode, with a minimum impoundment elevation of 628.5 feet msl (0.5 foot less than the spillway crest elevation). Kaukauna also proposes to develop resource plans for mitigating the effects of reservoir drawdowns, woody debris removal, and erosion on aquatic resources; and mitigating the spread of invasive species.

m. A copy of the application is available for review at the Commission in the Public Reference Room or may be viewed on the Commission's Web site at http://www.ferc.gov using the eLibrary link. Enter the docket number excluding the last three digits in the docket number field to access the document. For assistance, contact FERC Online Support. A copy is also available for inspection and reproduction at the address in item h above.

n. Anyone may submit comments, a protest, or a motion to intervene in accordance with the requirements of Rules of Practice and Procedure, 18 CFR 385.210, .211, and .214. In determining the appropriate action to take, the Commission will consider all protests or other comments filed, but only those who file a motion to intervene in accordance with the Commission's Rules may become a party to the proceeding. Any comments, protests, or motions to intervene must be received on or before the specified comment date for the particular application.

All filings must (1) bear in all capital letters the title PROTEST, MOTION TO INTERVENE, COMMENTS, REPLY COMMENTS, RECOMMENDATIONS, TERMS AND CONDITIONS, or PRESCRIPTIONS; (2) set forth in the heading the name of the applicant and the project number of the application to which the filing responds; (3) furnish the name, address, and telephone number of the person protesting or intervening; and (4) otherwise comply with the requirements of 18 CFR 385.2001 through 385.2005. All comments, recommendations, terms and conditions or prescriptions must set forth their evidentiary basis and otherwise comply with the requirements of 18 CFR 4.34(b). Agencies may obtain copies of the application directly from the applicant. A copy of any protest or motion to intervene must be served upon each representative of the applicant specified in the particular application. A copy of all other filings in reference to this application must be accompanied by proof of service on all persons listed in the service list prepared by the Commission in this proceeding, in accordance with 18 CFR 4.34(b) and 385.2010.

You may also register online at http://www.ferc.gov/docs-filing/esubscription.asp to be notified via email of new filings and issuances related to this or other pending projects. For assistance, contact FERC Online Support.

o. A license applicant must file no later than 60 days following the date of issuance of this notice: (1) A copy of the water quality certification; (2) a copy of the request for certification, including proof of the date on which the certifying agency received the request; or (3) evidence of waiver of water quality certification.

Dated: November 21, 2017.
Kimberly D. Bose,
Secretary.

[FR Doc. 2017-25725 Filed 11-28-17; 8:45 am]

BILLING CODE 6717-01-P